SMALL BUSINESS ADMINISTRATION

[Disaster Declaration #10701 and #10702]

Louisiana Disaster Number LA-00007

AGENCY: U.S. Small Business Administration.

ACTION: Amendment 2.

SUMMARY: This is an amendment of the Presidential declaration of a major disaster for the State of Louisiana (FEMA—1668—DR), dated 11/02/2006.

Incident: Severe Storms and Flooding.

Incident Period: 10/16/2006 and continuing through 11/08/2006.

DATES: Effective Date: 11/08/2006.

Physical Loan Application Deadline Date: 01/02/2007.

EIDL Loan Application Deadline Date: 08/02/2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of Louisiana, dated 11/02/2006, is hereby amended to establish the incident period for this disaster as beginning 10/16/2006 and continuing through 11/08/2006.

All other information in the original declaration remains unchanged.

(Catalog of Federal Domestic Assistance Numbers 59002 and 59008)

Herbert L. Mitchell,
Associate Administrator, for Disaster Assistance.

[FR Doc. E6-20420 Filed 12-1-06; 8:45 am]

BILLING CODE 8025-01-P